NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by October 7, 2010. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Description of Permit Modification Requested: The Foundation issued a permit (2010-010) to Dr. Daniel P. Costa on January 5, 2010. The issued permit allows the applicant to census, tag, weigh, measure, and collect blood and tissue samples, and instrument mammals (Weddell, Crabeater, Ross, Leopard and Southern Elephant seals). The studies of these animals will help in understanding how they respond to temperature fluctuations and how their foraging behavior and habitat utilization varies over large spatial and temporal scales. The applicant requests a modification to his permit to administer 40-60 gr of 0-18 labeled water and to attach a small drag inducing device along with the ARGOS telemetry tag, a TDR and an accelerometer tag. The 0-18 water is a stable isotope and should have no adverse affect on the animal. This procedure will help to understand the foraging energy expenditure from isotopic turnover.

Location: Ross Sea and McMurdo Sound.

Dated: October 1, 2010 to December 31, 2012.
Nadene G. Kennedy,
Permit Officer, Office of Polar Programs.

[FR Doc. 2010-22130 Filed 9-3-10; 8:45 am]

BILLING CODE 7555-01-P